DEPARTMENT OF ENERGY

Federal Energy Regulatory Commission

Combined Notice of Filings #1

September 2, 2005.

Take notice that the Commission received the following electric rate filings:

Docket Numbers: ER01-388-003.

Applicants: WFEC GENCO, L.L.C.

Description: WFEC GENCO, L.L.C. submits an amendment to its 3/24/05 filing in Docket No. ER01-388-003 of a revised updated market power analysis proposed mitigation measure, and corresponding tariff sheet revisions.

Filed Date: 08/26/2005.

Accession Number: 20050830-0076.

Comment Date: 5 p.m. Eastern Time on Friday, September 16, 2005.

Docket Numbers: ER02-2263-004.

Applicants: Southern California Edison Company.

Description: Southern California Edison Company submits its triennial market power analysis.

Filed Date: 08/29/2005.

Accession Number: 20050901-0127.

Comment Date: 5 p.m. Eastern Time on Monday, September 19, 2005.

Docket Numbers: ER03-563-052; EL04-102-010.

Applicants: Devon Power LLC.

Description: Fifth Compliance Report of ISO New England, Inc. submitted in compliance with the Commission's order issued June 2, 2004, Devon Power LLC, et al., 107 FERC ¶ 61,240 (2004).

Filed Date: 08/29/2005.

Accession Number: 20050829-5067.

Comment Date: 5 p.m. Eastern Time on Monday, September 19, 2005.

Docket Numbers: ER05-31-004; EL05-70-005.

Applicants: American Electric Power Service Corporation.

Description: American Electric Power Service Corporation, agent for its affiliate Indiana Michigan Power Company (I&M), submits a revised utility-to-utility interconnection agreement between I&M and Northern Indiana Public Service Company in compliance with the Commission's Order issued 7/26/05, 112 FERC ¶ 61,128 (2005).

Filed Date: 08/26/2005

Accession Number: 20050831-0053.

Comment Date: 5 p.m. Eastern Time on Friday, September 16, 2005.

Docket Numbers: ER05-191-002.

Applicants: Perryville Energy Partners, L.L.C.

Description: Perryville Energy Partners, L.L.C. submits First Revised Sheet No. 22 of its FERC Electric Tariff, Original Volume No. 2, in compliance with the Commission's order issued 8/2/05, 112 FERC ¶ 61,161 (2005).

Filed Date: 08/26/2005.

Accession Number: 20050829-0010.

Comment Date: 5 p.m. Eastern Time on Friday, September 16, 2005.

Docket Numbers: ER05-667-002.

Applicants: Midwest Independent Transmission System Operator, Inc.

Description: Midwest Independent Transmission System Operator, Inc.'s response to the Commission's letter order issued 4/28/05 in Docket No. ER05-667-000 which requested additional information regarding the Large Generator Interconnection Agreement among Midwest ISO, Montana-Dakota Utilities Company and Dakota Wind Harvest, Inc.

Filed Date: 08/29/2005.

Accession Number: 20050831-0013.

Comment Date: 5 p.m. Eastern Time on Monday, September 19, 2005.

Docket Numbers: ER05-752-002.

Applicants: Midwest Independent Transmission System Operator, Inc. and PJM Interconnection, L.L.C.

Description: Midwest Independent Transmission System Operator Inc., and PJM Interconnection, L.L.C. submitted clarifying revisions to the calculation of Capacity Benefit Margin under the Congestion Management Process of their Joint Operating Agreement (JOA) pursuant to the Commission's order issued 7/5/05, 112 FERC ¶ 61,029 (2005) and a request joint request for the effective date for JOA changes authorized in this proceeding.

Filed Date: 08/30/2005.

Accession Number: 20050831-0042.

Comment Date: 5 p.m. Eastern Time on Friday, September 9, 2005.

Docket Numbers: ER05-934-001.

Applicants: Kentucky Utilities Company.

Description: Kentucky Utilities Company submits its compliance pursuant to the Commission's 6/28/05 Letter Order in Docket No. ER05-934-000.

Filed Date: 08/29/2005.

Accession Number: 20050831-0049.

Comment Date: 5 p.m. Eastern Time on Monday, September 19, 2005.

Docket Numbers: ER05-1204-001.

Applicants: Mystic I, LLC; Mystic Development, LLC; and Fore River Development, LLC.

Description: Mystic I, LLC, Mystic Development, LLC, and Fore River Development, LLC submit substitute tariff sheets to their respective Market-Based Rate Tariffs, Third Revised Volume No. 1 which were originally filed on 7/5/05.

Filed Date: 08/30/2005.

Accession Number: 20050901-0108.

Comment Date: 5 p.m. Eastern Time on Tuesday, September 20, 2005.

Docket Numbers: ER05-1326-001.

Applicants: Cornerstone Energy General Partners, LLC

Description: Cornerstone Energy General Partners, LLC submits an amendment to its 8/12/05 filing of an “Application for Order Authorizing Market-Based Rates, Waiving Regulations and Granting Blanket Approvals” in Docket No. ER05-1326-000.

Filed Date: 08/26/2005.

Accession Number: 20050831-0010.

Comment Date: 5 p.m. Eastern Time on Friday, September 16, 2005.

Docket Numbers: ER05-1401-000.

Applicants: Midwest Independent Transmission System Operator, Inc.

Description: Midwest Independent Transmission System Operator, Inc. submits an Interconnection & Operating Agreement with Arnold Windfarm, LLC, the Midwest Independent Transmission System Operator, Inc. and Interstate Power and Light Company, a wholly-owned subsidiary of Alliant Energy Corporation.

Filed Date: 08/29/2005.

Accession Number: 20050831-0003.

Comment Date: 5 p.m. Eastern Time on Monday, September 19, 2005.

Docket Numbers: ER05-1406-000.

Applicants: Pacific Gas and Electric Company.

Description: Pacific Gas and Electric Company submits a fully executed Generator Special Facilities Agreement and an unexecuted draft Generator Interconnection Agreement with Midway Power, LLC.

Filed Date: 08/30/2005.

Accession Number: 20050831-0041.

Comment Date: 5 p.m. Eastern Time on Tuesday, September 20, 2005.

Docket Numbers: ER05-1407-000.

Applicants: Portland General Electric Company.

Description: Portland General Electric Company (PGE) submits a proposed tariff, PGE Original Volume No. 13, Sale of Ancillary Services at Cost Based Rates.

Filed Date: 08/30/2005.

Accession Number: 20050901-0104.

Comment Date: 5 p.m. Eastern Time on Tuesday, September 20, 2005.

Docket Numbers: ER05-1408-000.

Applicants: Southern California Edison Company.

Description: Southern California Edison Company submits the Second Amended & Restated 33kV Added Facilities Agreement between Southern California Water Company and Southern California Edison Company.

Filed Date: 08/30/2005.

Accession Number: 20050901-0105.

Comment Date: 5 p.m. Eastern Time on Tuesday, September 20, 2005.

Docket Numbers: ER05-1409-000.

Applicants: The United Illuminating Company.

Description: The United Illuminating Company submits proposed revisions to Schedule 21-UI and Schedule 20A-UI of section II of the ISO New England Inc. Transmission, Markets and Services Tariff, which is ISO New England Inc. Open Access Transmission Tariff.

Filed Date: 08/30/2005.

Accession Number: 20050901-0003.

Comment Date: 5 p.m. Eastern Time on Tuesday, September 20, 2005.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas
Secretary

[FR Doc. E5-4931 Filed 9-8-05; 8:45 am]

BILLING CODE 6717-01-P